DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 30, 2003.

Interested persons are invited to submit written comments regarding the subject matter of the investigations to the Director, Division of Trade Adjustment Assistance, at the address shown below, not later than June 30, 2003.

The petitions filed in this case are available for inspection at the Office of the Director, Division of Trade Adjustment Assistance, Employment and Training Administration, U.S. Department of Labor, Room C-5311, 200 Constitution Avenue, NW., Washington, DC 20210.

Signed at Washington, DC this 9th day of June 2003.
Timothy Sullivan,
Director, Division of Trade Adjustment Assistance.

Appendix—Petitions Instituted Between 05/12/2003 and 05/16/2003
TA-W | Subject firm (petitioners) | Location | Date of institution | Date of petition
51,732 | Union Tank Car Company (Wkrs) | Longview, TX | 05/12/2003 | 04/30/2003
51,733 | Dirigo Dowels and Pins, Inc. (Comp) | New Portland, ME | 05/12/2003 | 05/06/2003
51,734 | Jockey International (Wkrs) | Alamo, TN | 05/12/2003 | 05/12/2003
51,735 | Consolidated Freightways (Wkrs) | Eau Claire, WI | 05/12/2003 | 05/07/2003
51,736 | Safeharbor Technology Corporation (Wkrs) | Satsop, WA | 05/12/2003 | 05/09/2003
51,737 | Swissport USA (Wkrs) | San Antonio, TX | 05/12/2003 | 05/09/2003
51,738 | Motor Component, LLC (Comp) | Elmira, NY | 05/12/2003 | 05/09/2003
51,739 | F/V Blue Fox (Comp) | Naknek, AK | 05/12/2003 | 05/05/2003
51,740 | F/V Lucy Lewis (Wkrs) | Kipnuk, AK | 05/12/2003 | 04/28/2003
51,741 | Apone's T-Shirt Cache (Comp) | Anchorage, AK | 05/14/2003 | 02/05/2003
51,742 | Entronix International, Inc. (MN) | Minneapolis, MN | 05/14/2003 | 05/06/2003
51,743 | Sychip, Inc. (NJ) | Murray Hill, NJ | 05/14/2003 | 05/13/2003
51,744 | Gateway Industrial Services (Wkrs) | Jonesboro, AR | 05/14/2003 | 05/06/2003
51,745 | Marion Plywood Corporation (Comp) | Marions, WI | 05/14/2003 | 05/07/2003
51,746 | Motorola (Wkrs) | Chandler, AZ | 05/14/2003 | 05/08/2003
51,747 | Fisher Scientific (Wkrs) | Indiana, PA | 05/14/2003 | 05/13/2003
51,748 | Intel Corporation (Wkrs) | Hillsboro, OR | 05/14/2003 | 05/09/2003
51,749 | Intel Corporation (Comp) | Hillsboro, OR | 05/14/2003 | 01/14/2003
51,749A | Intel Corporation (Comp) | DuPont, WA | 05/14/2003 | 01/14/2003
51,750 | Federated Merch. Group (Wkrs) | New York, NY | 05/14/2003 | 05/05/2003
51,751 | McMillen Lumber (Wkrs) | Sheffield, PA | 05/14/2003 | 05/06/2003
51,752 | Bay Machinery Company (Wkrs) | Blissfield, MI | 05/14/2003 | 05/09/2003
51,753 | Agilent Technologies (Comp) | Richardson, TX | 05/14/2003 | 05/12/2003
51,754 | Rodco Products (Comp) | Lewiston, ME | 05/14/2003 | 05/07/2003
51,755 | Selkirk, LLC (Wkrs) | Logan, OH | 05/14/2003 | 05/12/2003
51,756 | Mattel, Inc. (NJ) | Mt. Laurel, NJ | 05/14/2003 | 05/13/2003
51,757 | Coherent Inc. (Wkrs) | Auburn, CA | 05/14/2003 | 05/13/2003
51,758 | Teleflex Automotive, Inc. (Wkrs) | VanWert, OH | 05/14/2003 | 05/12/2003
51,759 | Heidenhain (Wkrs) | Schaumburg, IL | 05/14/2003 | 05/06/2003
51,760 | Satellite Technology Mgmt. (Wkrs) | Irvine, CA | 05/14/2003 | 04/12/2003
51,761 | ADC Telecommunications (Wkrs) | Tustin, CA | 05/14/2003 | 05/06/2003
51,762 | Ingersoll Milling Machine (Wkrs) | Rockford, IL | 05/14/2003 | 04/15/2003
51,763 | Kismet Products, Inc. (Comp) | Perry, OH | 05/14/2003 | 05/06/2003
51,764 | F/V Resolute (Comp) | Ketchikan, AK | 05/14/2003 | 05/05/2003
51,766 | Fishing Vessel (F/V) Return (Comp) | King Cove, AK | 05/14/2003 | 05/02/2003
51,767 | F/V Imperial (Comp) | Funter Bay, AK | 05/14/2003 | 05/08/2003
51,768 | Chilkoot Fish Company (Comp) | Haines, AK | 05/14/2003 | 05/04/2003
51,769 | Hamilton Die Cast, Inc. (Wkrs) | Hamilton, OH | 05/15/2003 | 12/19/2002
51,770 | Phantom USA, Inc. (Comp) | Liberty, NC | 05/15/2003 | 05/02/2003
51,771 | Thompson-Hancock Technologies (Comp) | Gibsonville, NC | 05/15/2003 | 05/09/2003
51,772 | Computer Simulations (Comp) | Pittsburgh, PA | 05/16/2003 | 05/12/2003
51,773 | Regal Ware, Inc. (PACE) | Kewaskum, WI | 05/15/2003 | 04/30/2003
51,774 | Pactiv Corp. (Wkrs) | Red Bluff, CA | 05/15/2003 | 05/02/2003
51,775 | InteSys Technologies Inc. (Comp) | Gilbert, AZ | 05/15/2003 | 05/12/2003
51,776 | General Tool Company (OH) | Cincinnati, OH | 05/15/2003 | 05/15/2003
51,777 | Cambridge Metal and Plastics (MN) | Cambridge, MN | 05/15/2003 | 05/13/2003
51,778 | C and D Apparel (Wkrs) | Tellico Plains, TN | 05/15/2003 | 05/09/2003
51,779 | Cordis Cardiovascular (Wkrs) | Maple Grove, MN | 05/15/2003 | 05/06/2003
51,780 | QCR Tech, LLC (IAM) | Madison Hgts., MI | 05/15/2003 | 05/08/2003
51,781 | MSX International (IAM) | Auburn Hills, MI | 05/15/2003 | 05/08/2003
51,782 | Troy Tooling, Inc. (IAM) | Rochester Hills, MI | 05/15/2003 | 05/08/2003
51,783 | Nabco, Inc. (Comp) | Arion, MI | 05/16/2003 | 05/15/2003
51,784 | Richardson Electric, Ltd. (Comp) | Richmond, IN | 05/16/2003 | 05/13/2003
51,785 | Astro-Netics, Inc (IAM) | Madison Heights, MI | 05/15/2003 | 05/08/2003
51,786 | Seaway Pattern Manufacturing, Inc. (IAM) | Toledo, OH | 05/15/2003 | 05/01/2003
51,787 | Production Pattern Co. (IAM) | Bedford, OH | 05/15/2003 | 05/01/2003
51,788 | American Steel Foundry/Keystone Co. (IAM) | Alliance, OH | 05/16/2003 | 05/01/2003
51,789 | Allen Pattern of Michigan (IAM) | Battle Creek, MI | 05/15/2003 | 05/01/2003
51,790 | Paragon Pattern & Manufacturing Company (IAM) | Muskegon Hghts, MI | 05/15/2003 | 05/01/2003
51,791 | Cobra Patterns and Models (IAM) | Madison Hts., MI | 05/15/2003 | 05/01/2003
51,792 | Mack Industries (IAM) | Troy, MI | 05/15/2003 | 05/01/2003
51,793 | Commerce Eng. and Pattern Co. (IAM) | Walled Lake, MI | 05/15/2003 | 05/01/2003
51,794 | Progress Pattern Corp. (IAM) | Livonia, MI | 05/15/2003 | 05/01/2003
51,795 | Int'l Seaford of Alaska, Inc. (Comp) | Kodiak, AK | 05/15/2003 | 05/02/2003
51,796 | F/V Northern Flyer (Comp) | Ketchikan, AK | 05/15/2003 | 05/13/2003
51,797 | Walter L. Riley (Comp) | Dillingham, AK | 05/15/2003 | 04/25/2003
51,798 | Semitool (Comp) | Kalispell, MT | 05/16/2003 | 05/12/2003
51,799 | Plastech Corporation (Comp) | Amery, WI | 05/16/2003 | 05/12/2003
51,800 | Meridian Automotive (Wkrs) | Centralia, IL | 05/16/2003 | 05/15/2003
51,801 | Solid State Securities (Wkrs) | Hazleton, PA | 05/16/2003 | 05/13/2003
51,802 | Lucent Technologies (Wkrs) | Columbus, OH | 05/16/2003 | 05/12/2003
51,803 | North American Cronite (Wkrs) | N. Ridgeville, OH | 05/16/2003 | 05/09/2003
51,804 | Link-Belt Construction Equipment (Comp) | Lexington, KY | 05/16/2003 | 05/08/2003
51,805 | Plexus Electronic Assembly (Wkrs) | Richmond, KY | 05/16/2003 | 05/07/2003
51,806 | Fishing Vessel (F/V) Mattie Lynn (Comp) | Ninilchik, AK | 05/16/2003 | 04/28/2003

[FR Doc. 03-15459 Filed 6-18-03; 8:45 am]

BILLING CODE 4510-30-M